DEPARTMENT OF TRANSPORTATION

National Highway Traffic Safety Administration

[Docket No. NHTSA-2014-0094; Notice 1]

Ferrari North America, Inc., Receipt of Petition for Decision of Inconsequential Noncompliance

AGENCY: National Highway Traffic Safety Administration (NHTSA), Department of Transportation (DOT).

ACTION: Receipt of petition.

SUMMARY: Ferrari North America, Inc. (FNA) has determined that certain model year (MY) 2007-2009 Ferrari F430 passenger cars do not fully comply with paragraph S4.4(c)(2), of Federal Motor Vehicle Safety Standard (FMVSS) No. 138, Tire Pressure Monitoring Systems. FNA has filed an appropriate report dated July 16, 2014, pursuant to 49 CFR part 573, Defect and Noncompliance Responsibility and Reports.

DATES: The closing date for comments on the petition is July 17, 2015.

ADDRESSES: Interested persons are invited to submit written data, views, and arguments on this petition. Comments must refer to the docket and notice number cited at the beginning of this notice and submitted by any of the following methods:

• Mail: Send comments by mail addressed to: U.S. Department of Transportation, Docket Operations, M-30, West Building Ground Floor, Room W12-140, 1200 New Jersey Avenue SE., Washington, DC 20590.

• Hand Deliver: Deliver comments by hand to: U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by: Logging onto the Federal Docket Management System (FDMS) Web site at http://www.regulations.gov/. Follow the online instructions for submitting comments.

Comments may also be faxed to (202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

SUPPLEMENTARY INFORMATION:

I. FNA's Petition: Pursuant to 49 U.S.C. 30118(d) and 30120(h) and the rule implementing those provisions at 49 CFR part 556, FNA submitted a petition for an exemption from the notification and remedy requirements of 49 U.S.C. Chapter 301 on the basis that this noncompliance is inconsequential to motor vehicle safety.

This notice of receipt of FNA's petition is published under 49 U.S.C. 30118 and 30120 and does not represent any agency decision or other exercise of judgment concerning the merits of the petition.

II. Vehicles Involved: Affected are approximately 1,975 MY 2007-2009 Ferrari F430 passenger cars manufactured from September 1, 2007 through July 29, 2009.

III. Noncompliance: FNA explains that the Tire Pressure Monitoring System (TPMS) malfunction indicator illuminates as required by FMVSS No. 138 when a malfunction is first detected, however, if the malfunction is caused by an incompatible wheel, when the vehicle ignition is deactivated and then reactivated to the “On” (“Run”) position after a five-minute period, the malfunction indicator does not re-illuminate immediately as required. FNA added, that the malfunction indicator in the subject vehicles will re-illuminate after a maximum of 40 seconds of driving above 23 mph.

Rule Text: Paragraph S4.4(c)(2) of FMVSS No. 138 requires in pertinent part:

S4.4 TPMS Malfunction.

(c) Combination low tire pressure/TPMS malfunction telltale. The vehicle meets the requirements of S4.4(a) when equipped with a combined Low Tire Pressure/TPMS malfunction telltale that: . . .

(2) Flashes for a period of at least 60 seconds but no longer than 90 seconds upon detection of any condition specified in S4.4(a) after the ignition locking system is activated to the “On” (“Run”) position. After each period of prescribed flashing, the telltale must remain continuously illuminated as long as a malfunction exists and the ignition locking system is in the “On” (“Run”) position. This flashing and illumination sequence must be repeated each time the ignition locking system is placed in the “On” (“Run”) position until the situation causing the malfunction has been corrected. . . .

V. Summary of FNA's Analyses: FNA stated its belief that the subject noncompliance is inconsequential to motor vehicle safety for the following reasons:

(A) FNA stated that the TPMS in the subject vehicles generally functions properly to alert the driver to a low tire pressure. Moreover, the TPMS malfunction indicator illuminates as required when a problem is first detected. If, however, there is an incompatible wheel and tire unit, when the vehicle ignition is deactivated and then reactivated after a five-minute period, the malfunction indicator does not re-illuminate immediately as required by FMVSS No. 138. It nevertheless generally will illuminate shortly thereafter, and, in any event, it will illuminate in no more than 40 seconds, even in vehicles containing the noncompliance.

Once a vehicle has started and is accelerating above 23 mph for a period of 15 seconds, the TPMS will seek to confirm that the sensors are fitted, the TPMS will detect this within a further period of 15-20 seconds (up to a maximum of 25 seconds), and the TPMS malfunction indicator will correctly illuminate. Once the malfunction indicator is illuminated, it will remain illuminated throughout the ignition cycle, regardless of the vehicle's speed. Thus, even in the presence of the noncompliance, drivers are warned of the malfunction in less than one minute of driving at or above normal urban speeds.

(B) FNA also stated that if the TPMS fails to detect a compatible sensor, the TPMS monitor will display no value for the tire pressure of the affected wheel(s). The monitor will also alert the driver to the fact that something is not functioning properly with the system, pending the illumination of the malfunction indicator.

(C) FNA further states that the noncompliance is confined to one particular aspect of the functionality of the otherwise compliant TPMS indicator. All other aspects of the low-pressure monitoring system functionality are fully compliant with the requirements of FMVSS No. 138.

(D) FNA is not aware of any customer complaints, field communications, incidents or injuries related to this condition.

In summation, FNA believes that the described noncompliance of the subject vehicles is inconsequential to motor vehicle safety, and that its petition, to exempt FNA from providing recall notification of noncompliance as required by 49 U.S.C. 30118 and remedying the recall noncompliance as required by 49 U.S.C. 30120 should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that FNA no longer controlled at the time it determined that the noncompliance existed. However, any decision on this petition does not relieve vehicle distributors and dealers of the prohibitions on the sale, offer for sale, or introduction or delivery for introduction into interstate commerce of the noncompliant vehicles under their control after FNA notified them that the subject noncompliance existed.

Authority: (49 U.S.C. 30118, 30120: delegations of authority at 49 CFR 1.95 and 501.8)

Jeffrey Giuseppe,
Director, Office of Vehicle Safety Compliance.

[FR Doc. 2015-14779 Filed 6-16-15; 8:45 am]

BILLING CODE 4910-59-P